DEPARTMENT OF JUSTICE

[OLP Docket No. 167]

Notice of Request for Certification of Texas Capital Counsel Mechanism

AGENCY: Department of Justice.

ACTION: Notice.

SUMMARY: This notice advises the public that the State of Texas has requested certification of its capital counsel mechanism by the Attorney General and that public comments may be submitted to the Department of Justice regarding Texas's request.

DATES: Written and electronic comments must be submitted on or before January 16, 2018. Comments received by mail will be considered timely if they are postmarked on or before that date. The electronic Federal Docket Management System (FDMS) will accept comments until Midnight Eastern Time at the end of that day.

ADDRESSES: To ensure proper handling of comments, please reference “Docket No. OLP 167” on all electronic and written correspondence. The Department encourages that all comments be submitted electronically through http://www.regulations.gov using the electronic comment form provided on that site. Paper comments that duplicate the electronic submission should not be submitted. Individuals who wish to submit written comments may send those to the contact listed in the FOR FURTHER INFORMATION CONTACT section immediately below.

FOR FURTHER INFORMATION CONTACT: Laurence Rothenberg, Deputy Assistant Attorney General, Office of Legal Policy, U.S. Department of Justice, 950 Pennsylvania Avenue NW., Washington, DC 20530; telephone (202) 532-4465.

SUPPLEMENTARY INFORMATION: Chapter 154 of title 28, United States Code, provides special procedures for federal habeas corpus review of cases brought by indigent prisoners in State custody who are subject to capital sentences. These special procedures may be available to a State only if the Attorney General of the United States has certified that the State has established a qualifying mechanism for the appointment, compensation, and payment of reasonable litigation expenses of competent counsel in State postconviction proceedings for indigent capital prisoners. 28 U.S.C. 2261, 2265; 28 CFR part 26.

This notice advises the public, pursuant to 28 CFR 26.23(b), that the State of Texas has requested certification of its capital counsel mechanism by the Attorney General. Public comment is solicited regarding Texas's request. Texas's request and supporting materials may be viewed at https://www.justice.gov/olp/pending-requests-final-decisions.

Dated: November 13, 2017.
Beth A. Williams,
Assistant Attorney General, Office of Legal Policy.

[FR Doc. 2017-24874 Filed 11-15-17; 8:45 am]

BILLING CODE 4410-BB-P